DEPARTMENT OF TRANSPORTATION

[Docket No. PHMSA-2021-0085]

Pipeline Safety: Information Collection Activities

AGENCY: Pipeline and Hazardous Materials Safety Administration (PHMSA), DOT.

ACTION: Notice and request for comments.

SUMMARY: In accordance with the Paperwork Reduction Act of 1995, PHMSA invites public comments on its intent to request Office of Management and Budget (OMB) approval to revise and renew an information collection currently under OMB Control Number 2137-0596 titled: “National Pipeline Mapping System Program.” The information collection currently requires operators to submit geospatial data, attributes, metadata, public contact information, and a transmittal letter appropriate for use in the National Pipeline Mapping System (NPMS). Acceptable formats and additional information are specified in the NPMS Attribute Standards document available at www.npms.phmsa.dot.gov. The proposed revisions would modify one attribute approved in January 2020 that pipeline operators must submit to PHMSA, extend the expiration date of the information collection established by OMB, and require gas transmission operators to submit additional attributes to the NPMS.

DATES: Interested persons are invited to submit comments on or before May 10, 2022.

ADDRESSES: Comments may be submitted in the following ways:

E-Gov Website: http://www.regulations.gov. This site allows the public to enter comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., ET, Monday through Friday, except federal holidays.

Instructions: Identify the docket number, PHMSA-2021-0085 at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., ET, Monday through Friday, except federal holidays. If you wish to receive confirmation of receipt of your written comments, please include a self-addressed, stamped postcard with the following statement: “Comments on: PHMSA-2021-0085.” The Docket Clerk will date stamp the postcard prior to returning it to you via the U.S. mail. Please note that due to delays in the delivery of U.S. mail to federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL- 14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Any commentary PHMSA receives that is not specifically designated as CBI will be placed in the public docket for this matter.

FOR FURTHER INFORMATION CONTACT: Angela Hill by email at Angela.Hill@dot.gov.

SUPPLEMENTARY INFORMATION:

I. Background

Section 1320.8(d), Title 5, Code of Federal Regulations, requires PHMSA to provide interested members of the public and affected entities an opportunity to comment on information collection and recordkeeping requests. This notice identifies the proposed changes to the information collection under OMB Control Number 2137-0596 that PHMSA will submit to OMB for approval.

The NPMS includes a geospatial information system (GIS) dataset that contains information about PHMSA-regulated gas transmission and hazardous liquid pipelines. The NPMS also contains data layers for liquefied natural gas plants and hazardous liquid breakout tanks. PHMSA has a contract for services to perform all NPMS data submission processing and support for pipeline operators submitting NPMS data. This contract also includes all information technology (IT) systems and applications designed to collect, process, and disseminate NPMS data to stakeholders and the public.

On January 22, 2020, OMB approved significant changes to the NPMS information collection and established January 31, 2023, as the expiration date of the information collection. Since OMB approval, PHMSA has determined that implementing the significant changes approved by OMB are not feasible within the terms and scope of the current data submission and IT contract.

The acquisition planning for a re-competition of the NPMS contract has started. However, the complexities introduced by the combined requirements of supporting the NPMS system in its current state while at the same time implementing the significant changes to the system has impacted the contract procurement timeline. The changes to the NPMS system would require architecture, data, and application design modifications. PHMSA has initiated the process of establishing a new NPMS contract to complete this work, but will not be able to complete that process and set up the new system in order to start collecting the new information approved by OMB before the January 31, 2023, expiration date.

PHMSA also proposes that two additional data elements be added to the information collection for gas transmission pipelines. On October 1, 2019, (84 FR 52180) PHMSA published in the Federal Register a final rule titled: “Pipeline Safety: Safety of Gas Transmission Pipelines: MAOP Reconfirmation, Expansion of Assessment Requirements, and Other Related Amendments” (Docket no, PHMSA-2011-0023). In the final rule, the term “moderate consequence area” was added to 49 CFR part 192. Also, the final rule added § 192.710, which requires assessments of certain gas transmission pipelines outside of high consequence areas (HCAs). Data elements regarding the location of moderate consequence areas (MCAs) and assessments outside of HCAs would provide local, state, and federal government stakeholders with important information regarding gas pipeline segments with elevated risk.

II. Implementation Timeline

PHMSA intends to maintain a phased implementation plan, as outlined below, for the information collection changes approved in January 2020. The dates shown below are the earliest possible dates PHMSA could start collecting data for each phase. PHMSA will inform operators if we need to revise any of the dates. Details about the contents of each phase are included in the next sections.

Phase 0 2024 collection of CY 2023 data

Phase 1 2027 collection of CY 2026 data

Phase 2 2028 collection of CY 2027 data

Phase 3 2027 collection of CY 2026 data

These proposed implementation dates would allow PHMSA and pipeline operators to design and build the necessary systems to support the data submittal process. Additional time is also necessary for developing new submission methods and tools, explanatory and procedural materials, and training opportunities, which will provide certainty for both PHMSA and pipeline operators through the implementation of the changes outlined in the NPMS information collection.

A. Phase 0 Data Elements

In the April 11, 2019, (84 FR 14717) Federal Register notice requesting revision to the previously approved information collection regarding the National Pipeline Mapping System Program which led to the January 2020 OMB approval, the data elements below became mandatory, rather than optional, in Phase 1. PHMSA proposes making the data elements below mandatory in a new Phase 0 since PHMSA and many operators already have experience using these attributes. When operators submit calendar year 2023 data in 2024, PHMSA may reject submissions missing the following four data elements:

(1) Pipe diameter; (2) Commodity detail; (3) Breakout tanks; and (4) Abandoned pipeline segments.

B. Phase 1 Data Elements

In the April 11, 2019, Federal Register notice that led to the January 2020 OMB approval, the data elements below were included in Phase 1. PHMSA proposes keeping these data elements in Phase 1:

• Pipe material.

• Pipe join method.

• Onshore/offshore.

• In-line inspection (yes/no).

• Class location.

• Gas HCA segment (yes/no).

• Coated (yes/no).

• Liquified Natural Gas plants (type of plant, year constructed, and capacity, in addition to separate layers and attributes for impoundments and exclusion zones).

PHMSA proposes two new data elements to be submitted by gas transmission pipeline operators in Phase 1. After PHMSA requested OMB approval of the information collection on April 11, 2019, PHMSA regulations were revised to include two new types of gas pipeline segments reflecting elevated risk. PHMSA proposes adding data elements to identify gas pipeline segments within MCAs, as defined in § 192.3, and for the applicability of § 192.710 to gas pipeline segments. Access to these two data elements would be restricted to government officials. Similar to collecting and sharing “gas high consequence area (HCA) segment (yes/no),” collecting and sharing the MCA and § 192.710 data would provide government stakeholders with location information for pipeline segments with elevated risk.

• Gas MCA (yes/no)—if the gas transmission segment is in an MCA as defined in part 192.3, report “Y.” Otherwise, report “N.” For a segment where Gas HCA is “Y,” MCA must be “N.”

• Gas 192.710 (yes/no)—if the gas transmission segment is required to be assessed under 49 CFR 192.710, report “Y.” Otherwise, report “N.” For a segment where Gas HCA is “Y,” 192.710 must be “N.”

C. Phase 2 Data Elements

In the April 11, 2019, Federal Register notice that led to the January 2020 OMB approval, Phase 2 consisted of changing the Facility Response Plan (FRP) sequence number from optional to mandatory and adding the following new data elements:

• Facility Response Plan (FRP) sequence number becomes mandatory.

• Seam type.

• Pipe grade.

• Wall thickness.

• Decade of installation.

• Hazardous liquid segment could affect an HCA—High Populated, Other Populated, Commercially Navigable Waterway, and Ecological USA.

• Assessment method and year.

PHMSA proposes no changes to the number of elements being collected in Phase 2 but does propose minor improvements for how one of the data elements will be collected. The OMB-approved collection includes collecting “pipe grade” in Phase 2. Stakeholders would have used this text to infer the numeric value for specified minimum yield strength (SMYS) of steel pipe. PHMSA proposes replacing the collection of “pipe grade” with the collection of the SMYS in pounds per square inch gauge (psig) when the “pipe material” is steel. Collecting “SMYS” allows stakeholders to see the actual numeric value instead of inferring the value from the “pipe grade” text field. When “SMYS” is unknown, PHMSA proposes operators report 9.999 psig which is well below any actual value for pipeline steel.

D. Phase 3

In the April 11, 2019, Federal Register notice that led to the January 2020 OMB approval, Phase 3 consisted of implementing new positional accuracy standards of +/- 50 or 100 feet seven years after OMB approval. PHMSA will require NPMS data submittals to meet these standards in 2027.

E. NPMS Attribute Standards Adjustments

Under the current approval of this information collection, wall thickness is collected as a number when known and text is entered when unknown. This paradigm creates unnecessary work for both PHMSA and pipeline operator GIS staff since sometimes the attribute would be text and sometimes numeric. PHMSA proposes that when the wall thickness is unknown, operators report the wall thickness as 9.999.

The current approval of this information collection states that the FRP sequence number is required for applicable liquid segments per 49 CFR part 194. In the NPMS Attribute Standards document, PHMSA did not list the commodity values for which the FRP sequence number is required. PHMSA proposes modifying the NPMS Attribute Standards document by listing onshore crude oil and onshore refined products as the pipeline segments requiring the FRP sequence number. In some cases, the operator may be required to report a hazardous liquid pipeline to the NPMS before obtaining an FRP sequence number from PHMSA. PHMSA also proposes that operators enter 9.999 for onshore crude oil and onshore refined products segments without an FRP sequence number. An updated NPMS Attribute Standards document reflecting the changes proposed by PHMSA is included in Docket No. PHMSA-2021-0085.

III. Summary of Impacted Collection

Section 1320.8(d), Title 5, Code of Federal Regulations, requires PHMSA to provide interested members of the public and affected agencies an opportunity to comment on information collection and recordkeeping requests. This notice identifies an information collection request that PHMSA will submit to OMB for revision.

The following information is provided for this information collection: (1) Title of the information collection; (2) OMB control number; (3) Current expiration date; (4) Type of request; (5) Abstract of the information collection activity; (6) Description of affected public; (7) Estimate of total annual reporting and recordkeeping burden; and (8) Frequency of collection.

PHMSA will request a three-year term of approval for this information collection. PHMSA requests comments on the following information:

1. Title: National Pipeline Mapping System Program.

OMB Control Number: 2137-0596.

Expiration Date: 1/31/2023.

Type of Request: Revision of a previously approved information collection.

Abstract: The Pipeline Safety Improvement Act of 2002 (Pub. L. 107-355), 49 U.S.C. 60132, “National Pipeline Mapping System,” requires the operator of a pipeline facility (except distribution lines and gathering lines) to provide information to PHMSA. Each operator is required to submit geospatial data appropriate for use in the National Pipeline Mapping System or data in a format that can be readily converted to geospatial data; the name and address of the person with primary operational control (to be known as its operator); and a means for a member of the public to contact the operator for additional information about the pipeline facilities it operates. Operators would submit the requested data elements once and make annual updates to the data if necessary. These data elements strengthen the effectiveness of PHMSA's risk rankings and evaluations, which are used as a factor in determining pipeline inspection priority and frequency; allow for more effective assistance to emergency responders by providing them with a more reliable, complete data set of pipelines and facilities; and provide better support to PHMSA's inspectors by providing more accurate pipeline locations and additional pipeline-related geospatial data that can be linked to tabular data in PHMSA's inspection database.

This proposed revision would require operators to submit geospatial data for MCAs, as defined in 49 CFR part 192, and data based on the applicability of § 192.710 assessments outside of HCAs. This revision would also require operators to submit the data element “SMYS” in psig in place of submitting data on pipe grade. PHMSA does not expect operators to incur additional burden due to the inclusion of these new and revised elements. PHMSA believes that the annual burden allotted for this information collection is sufficient for operators to include the newly requested data elements. A detailed breakdown of the estimated burden for this information collection can be found at www.regulations.gov.

Respondents: Operators of gas transmission, hazardous liquid, or liquefied natural gas pipeline facilities.

Annual Reporting and Recordkeeping Burden:

Estimated Number of Responses: 1,346 responses.

Estimated Total Annual Burden: 162,208 hours.

Frequency of Collection: Annually.

Comments are invited on:

(a) The need for the renewal and revision of this collection of information for the proper performance of the functions of the Agency, including whether the information will have practical utility;

(b) The accuracy of the Agency's estimate of the burden of the proposed collection of information,

(c) Ways to enhance the quality, utility, and clarity of the information to be collected; and

(d) Ways to minimize the burden of the collection of information on those who are required to respond, including the use of appropriate automated, electronic, mechanical, or other technological collection techniques.

Authority: The Paperwork Reduction Act of 1995; 44 U.S.C. Chapter 35, as amended; and 49 CFR 1.48.

Issued in Washington, DC, on March 7, 2022, under authority delegated in 49 CFR 1.97.
Alan K. Mayberry,
Associate Administrator for Pipeline Safety.

[FR Doc. 2022-05193 Filed 3-10-22; 8:45 am]

BILLING CODE 4910-60-P